DEPARTMENT OF LABOR

Employment and Training Administration

[TA-W-57,645]

Meridian Beartrack Company, a Subsidiary of Meridian Gold Company, Salmon, ID; Notice of Termination of Investigation

Pursuant to Section 221 of the Trade Act of 1974, as amended, an investigation was initiated on July 29, 2005 in response to a petition filed by a company official on behalf of workers at Meridian Beartrack Company, a subsidiary of Meridian Gold Company, Salmon, Idaho.

The petitioner has requested that the petition be withdrawn. Consequently, the investigation has been terminated.

Signed at Washington, DC, this 13th day of September, 2005.
Elliott S. Kushner,
Certifying Officer, Division of Trade Adjustment Assistance.

[FR Doc. E5-5296 Filed 9-27-05; 8:45 am]

BILLING CODE 4510-30-P